DEPARTMENT OF TRANSPORTATION

Federal Aviation Administration

Notice of Intent To Rule on Application To Impose and Use the Revenue From a Passenger Facility Charge (PFC) at Tweed-New Haven Airport, New Haven, CT

AGENCY: Federal Aviation Administration (FAA), DOT.

ACTION: Notice of intent to rule on application.

SUMMARY: The FAA proposes to rule and invites public comment on the application to impose and use the revenue from a PFC at Tweed-New Haven Airport under the provisions of the Aviation Safety and Capacity Expansion Act of 1990 (Title IX of the Omnibus Budget Reconciliation Act of 1990) (Pub. L. 101-508) and part 158 of the Federal Aviation Regulations (14 CFR part 158).

DATES: Comments must be received on or before May 24, 2001.

ADDRESSES: Comments on this application may be mailed or delivered in triplicate to the FAA at the following address: Priscilla Scott, PFC Program Manager, Federal Aviation Administration, Airports Division, 12 New England Executive Park, Burlington, Massachusetts 01803.

In addition, one copy of any comments submitted to the FAA must be mailed or delivered to Mr. Edwin V. Selden, Executive Director for the Tweed-New Haven Airport Authority at the following address: Tweed-New Haven Airport, 155 Burr Street, New Haven, Connecticut, 06512.

Air carriers and foreign air carriers may submit copies of written comments previously provided to the Tweed-New Haven Airport Authority under § 158.23 of part 158 of the Federal Aviation Regulations.

FOR FURTHER INFORMATION CONTACT: Priscilla A. Scott, PFC Program Manager, Federal Aviation Administration, Airports Division, 12 New England Executive Park, Burlington, Massachusetts 01803, (781) 238-7614. The application may be reviewed in person at 16 New England Executive Park, Burlington, Massachusetts.

SUPPLEMENTARY INFORMATION: The FAA proposes to rule and invites public comment on the application to impose and use the revenue from a PFC at Tweed-New Haven Airport under the provisions of the Aviation Safety and Capacity Expansion Act of 1990 (Title IX of the Omnibus Budget Reconciliation Act of 1990) (Pub. L. 101-508) and part 158 of the Federal Aviation Regulations (14 CFR part 158).

On April 3, 2001, the FAA determined that the application to impose and use the revenue from a PFC submitted by the Tweed-New Haven Airport Authority was substantially complete within the requirements of § 158.25 of part 158 of the Federal Aviation Regulations. The FAA will approve or disapprove the application, in whole or in part, no later than July 17, 2001.

The following is a brief overview of the impose and use application.

PFC Project #: 01-02-C-00-HVN.

Level of the proposed PFC: $4.50.

Proposed charge effective date: October 1, 2001.

Estimated charge expiration date: November 1, 2007.

Estimated total net PFC revenue: $1,963,265.

Brief description of projects:

Impose and use:

Construct an Airport Rescue and Fire Fighting Building

Conduct an Airport Master Plan Update

Construct Taxiway “B” and Runway 2-20 Safety Areas (Permitting)

Reconstruct a Portion of Runway 14-32

Purchase Snow Removal Equipment

Terminal Apron Glycol Recovery System Study

Obstruction Removal—Phase I Analysis and Plan

Impose:

Land Acquisition—Runway Protection Zone

Construct Taxiway “B” and Runway 2-20 Safety Areas

Install Perimeter Fencing

Rehabilitate Runway 2-20

Class or classes of air carriers which the public agency has requested not be required to collect PFCs: Air Taxi/Commercial Operators (ATCO).

Any person may inspect the application in person at the FAA office listed above under FOR FURTHER INFORMATION CONTACT.

In addition, any person may, upon request, inspect the application, notice and other documents germane to the application in person at the Tweed-New Haven Airport, 155 Burr Street, New Haven, Connecticut 06512.

Issued in Burlington, Massachusetts on April 5, 2001.
Vincent A. Scarano,
Manager, Airports Division, New England Region.

[FR Doc. 01-10132 Filed 4-23-01; 8:45 am]

BILLING CODE 4910-13-M